DEPARTMENT OF COMMERCE

National Oceanic and Atmospheric Administration

[RTID 0648-XE547]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a half-day virtual meeting of its Law Enforcement Technical Committee (LETC).

DATES: The meeting will convene on Thursday, January 16, 2025, beginning at 9 a.m. and ending at 1 p.m., EST.

ADDRESSES: The meeting will be held virtually, via webinar only. Please visit the Gulf Council website (www.gulfcouncil.org) for agenda and meeting materials information.

Council address: Gulf of Mexico Fishery Management Council, 4107 W Spruce Street, Suite 200, Tampa, FL 33607; telephone: (813) 348-1630.

FOR FURTHER INFORMATION CONTACT: Dr. Max Birdsong, Social Scientist, Gulf of Mexico Fishery Management Council; max.birdsong@gulfcouncil.org, telephone: (813) 348-1630.

SUPPLEMENTARY INFORMATION: The following items of discussion are on the agenda, though agenda items may be addressed out of order and any changes will be noted on the Council's website when possible.

Thursday, January 16, 2025; 9 a.m.-1 p.m., EST

The LETC will begin with introductions and adoption of agenda, approval of minutes from the October 2023 LETC meeting from and election of Committee Chair and Vice Chair.

The Gulf Council LETC will hold a review and discuss the Federal Charter Vessel ID Marking Requirements and 20-Fathom Recreational Seasonal Closure for Shallow-water Grouper. The Committee will also discuss the Nomination for Officer/Team of the Year, along with any Other Business items.

—Meeting Adjourns

The Agenda is subject to change, and the latest version along with other meeting materials will be posted on www.gulfcouncil.org.

The Law Enforcement Technical Committee consists of principal law enforcement officers in each of the Gulf States, as well as the NOAA Office of Law Enforcement, U.S. Fish and Wildlife Service, the U.S. Coast Guard, and the NOAA Office of General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under section 305(c) of the Magnuson-Stevens Fishery Conservation and Management Act, provided the public has been notified of the Council's intent to take action to address the emergency.

Authority: 16 U.S.C. 1801 et seq.

Dated: December 18, 2024.
Rey Israel Marquez,
Acting Deputy Director, Office of Sustainable Fisheries, National Marine Fisheries Service.

[FR Doc. 2024-30627 Filed 12-23-24; 8:45 am]

BILLING CODE 3510-22-P